DEPARTMENT OF THE INTERIOR

Bureau of Land Management

[ID-090-5700-EU; IDI-32281; DBG-05-0002]

Notice of Realty Action, Sale of Public Land in Owyhee County, ID

AGENCY: Bureau of Land Management, Interior.

ACTION: Notice of Realty Action, Sale of Public Land in Owyhee County, Idaho.

SUMMARY: The Bureau of Land Management (BLM) has determined that 30 acres of public land located in Owyhee County, Idaho is suitable for direct sale to Owyhee County under Sections 203 and 209 of the Federal Land Policy and Management Act of 1976 (90 Stat 2750, 43 U.S.C. 1713).

DATES: Comments should be received by April 11, 2005.

ADDRESSES: Comments should be sent to the Bruneau Field Office 3948 Development Avenue, Boise, Idaho 83705-5389.

FOR FURTHER INFORMATION CONTACT: Candi Miracle, Realty Specialist, at the address shown above or (208) 384-3455.

SUPPLEMENTARY INFORMATION: The public land proposed for sale is described as follows:

Boise Meridian, Owyhee County, Idaho

T. 6 S., R. 4 E., section 4: W½NW¼SE¼, W½E½NW¼SE¼.

The parcel of public land contains 30 acres.

The 1981 Bruneau Management Framework Plan identified the public land as available for disposal. On February 24, 2005 the parcel will be segregated from appropriation under the public land laws, including the mining laws, except the sale provisions of the Federal Land Policy and Management Act (FLPMA). The segregative effect will end upon issuance of patent or November 21, 2005, whichever occurs first.

The public land will not be offered for sale until April 25, 2005 at the appraised fair market value of $9,000. The patent, when issued, will contain a reservation to the United States for ditches and canals. This land is being offered by direct sale to Owyhee County pursuant to 43 CFR 2711.3-3, to provide a needed buffer around the existing Rimrock Landfill. It has been determined that the subject parcel contains no known mineral values; therefore, mineral interests will be conveyed simultaneously under the authority of Section 209 of FLPMA. A separate non-refundable filing fee of $50.00 is required from the purchaser for the conveyance of the mineral interests (43 CFR part 2720).

Dated: January 4, 2005.
Mitchell A Jaurena,
Acting Bruneau Field Manager.

[FR Doc. 05-3518 Filed 2-23-05; 8:45 am]

BILLING CODE 4310-GG-U